DEPARTMENT OF JUSTICE

Notice of Lodging of Consent Decree Pursuant to Clean Water Act

Notice is hereby given that on July 27, 2006, a proposed consent decree in United States, et al. v. City of Chicopee, Civil Action No. 06-30121-MAP, was lodged with the United States District Court for the District of Massachusetts.

The proposed consent decree will settle the United States' and Commonwealth of Massachusetts' claims for violations of the Clean Water Act, 33 U.S.C. 1251, et seq., and the Massachusetts Clean Waters Act, Mass. Gen. Laws ch. 21, § 42, related to the City's combined sewer overflows (CSO's). Pursuant to the proposed consent decree, the City will pay $150,000 as civil penalty for such violations, as well as institute a two-phased CSO control plan.

The Department of Justice will receive for a period of thirty (30) days from the date of this publication comments relating to the proposed consent decree. Comments should be addressed to the Assistant Attorney General of the Environment and Natural Resources Division, Department of Justice, Washington, DC 20530, and should refer to United States, et al., v. City of Chicopee, Civil Action No. 06-30121-MAP, D.J. Ref. 90-5-1-1-07953.

The proposed consent decree may also be examined at the Office of the United States Attorney, District of Massachusetts, 1550 Main Street, U.S. Courthouse, Room 310, Springfield, MA. During the public comment period, the proposed consent decree may also be examined on the following Department of Justice Web site, http://www.usdoj.gov/enrd/open.html. A copy of the proposed consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy of the proposed consent decree, please so note and enclose a check in the amount of $10.00 (25 cents per page reproduction cost) payable to the U.S. Treasury.

Ronald Gluck,
Assistant Chief, Environmental Enforcement Section, Environment and Natural Resources Division.

[FR Doc. 06-6807 Filed 8-9-06; 8:45 am]

BILLING CODE 4410-15-M